DEPARTMENT OF TRANSPORTATION

Federal Aviation Administration

Notice of Submission Deadline for Schedule Information for O'Hare International Airport, John F. Kennedy International Airport, and Newark Liberty International Airport for the Winter 2009/10 Scheduling Season

AGENCY: Department of Transportation, Federal Aviation Administration (FAA).

ACTION: Notice of submission deadline.

SUMMARY: Under this notice, the FAA announces the submission deadline of May 14, 2009, for Winter 2009/10 flight schedules at Chicago's O'Hare International Airport (ORD), New York's John F. Kennedy International Airport (JFK), and Newark Liberty International Airport (EWR) in accordance with the International Air Transport Association (IATA) Worldwide Scheduling Guidelines. The deadline of May 14, 2009, coincides with the schedule submission deadline for the IATA Schedules Conference for the Winter 2009/10 scheduling season.

SUPPLEMENTARY INFORMATION: The FAA has designated ORD as an IATA Level 2, Schedules Facilitated Airport, and JFK and EWR as Level 3, Coordinated Airports. Scheduled operations at JFK and EWR are currently limited by the FAA under orders that expire on October 24, 2009.¹ In addition, the FAA adopted a final rule for Congestion Management at John F. Kennedy International Airport and Newark Liberty International Airport that would have continued limits beyond October 2009. 73 FR 60,544 (Oct. 10, 2008). The rule was stayed by the U.S. Court of Appeals for the District of Columbia Circuit prior to the December 9, 2008, effective date. The FAA is presently reconsidering whether to go forward with the rule and is evaluating whether to propose its rescission. Accordingly, the FAA requested that the briefing schedule be held in abeyance. The court granted the FAA's request on April 1, 2009. Given the uncertainty surrounding the rule, it is likely that the orders at JFK and EWR will be extended through the Winter 2009/10 scheduling season.

¹ Operating Limitations at John F. Kennedy International Airport, 73 FR 3,510 (Jan. 18, 2008); Operating Limitations at Newark Liberty International Airport, 73 FR 29,550 (May 21, 2008).

The hourly capacity at JFK and EWR has not increased significantly since the orders took effect last spring. Because the demand for operations at New York-area airports remains high, and in light of the judicial stay, obtaining schedule information by the standard industry deadline and reviewing those schedules under the current procedures is the most practical way to proceed at this time.

The FAA is primarily concerned about planned passenger and cargo operations during peak hours, but carriers may submit schedule plans for the entire day. At ORD, the peak hours are between 7 a.m. and 9 p.m. Central Standard Time (1300-0300 UTC) and at EWR and JFK between the hours of 6 a.m. and 11 p.m. Eastern Standard Time (1100-0400 UTC). Carriers should submit schedule information in sufficient detail including, at minimum, the operating carrier, flight number, scheduled time of operation, frequency, and effective dates. IATA standard schedule information format and data elements (Standard Schedules Information Manual) may be used.

The U.S. winter scheduling season is from October 25, 2009, through March 27, 2010, in recognition of the IATA scheduling season dates. The FAA understands there may be differences in schedule times due to the U.S. daylight saving time dates, and we will accommodate these differences to the extent that it is possible.

DATES: Schedules must be submitted no later than May 14, 2009.

ADDRESSES: Schedules may be submitted by mail to the Slot Administration Office, AGC-240, Office of the Chief Counsel, 800 Independence Ave., SW., Washington, DC 20591; facsimile: 202-267-7277; ARINC: DCAYAXD; or by e-mail to: 7-AWA-slotadmin@faa.gov.

FOR FURTHER INFORMATION CONTACT: James Tegtmeier, Associate Chief Counsel for the Air Traffic Organization, Office of the Chief Counsel, Federal Aviation Administration, 800 Independence Avenue, SW., Washington, DC 20591; telephone number: 202-267-8323; fax number: 202-267-7971; e-mail: james.tegtmeier@faa.gov.

Issued in Washington, DC, on April 17, 2009.
Rebecca B. Macpherson,
Assistant Chief Counsel for Regulations.

[FR Doc. E9-9299 Filed 4-22-09; 8:45 am]

BILLING CODE 4910-13-P